DEPARTMENT OF STATE

[Public Notice 4211]

Office of Defense Trade Controls; Notifications to the Congress of Proposed Commercial Export Licenses

AGENCY: Department of State.

ACTION: Notice.

SUMMARY: Notice is hereby given that the Department of State has forwarded the attached Notifications of Proposed Export Licenses to the Congress on the dates shown on the attachments pursuant to sections 36(c) and 36(d) and in compliance with section 36(f) of the Arms Export Control Act (22 U.S.C. 2776).

EFFECTIVE DATE: As shown on each of the twenty-five letters.

FOR FURTHER INFORMATION CONTACT: Mr. William J. Lowell, Director, Office of Defense Trade Controls, Bureau of Political-Military Affairs, Department of State (202 663-2700).

SUPPLEMENTARY INFORMATION: Section 36(f) of the Arms Export Control Act mandates that notifications to the Congress pursuant to sections 36(c) and 36(d) must be published in the Federal Register when they are transmitted to Congress or as soon thereafter as practicable.

Dated: November 18, 2002.
William J. Lowell,
Director, Office of Defense Trade Controls, Department of State.

Department of State, Washington, D.C. 20520

October 4, 2002.

The Honorable Henry J. Hyde,

Chairman, Committee on International Relations, House of Representatives.

Dear Mr. Chairman: I am transmitting, herewith, certification of a proposed issuance of export licenses pursuant to Section 126.14 of the International Traffic in Arms Regulations concerning a Global Project Authorization (GPA) and Section 36(c) of the Arms Export Control Act.

The transaction described in the attached certification concerns the Systems Design and Development phase of the Joint Strike Fighter program and involves the export of technical data and defense services among U.S. defense firms and their foreign collaborative partners located in the countries of Canada, Denmark, Italy, Norway, The Netherlands, Turkey and the United Kingdom.

The United States Government is prepared to license exports of these items having taken into account political, military, economic, human rights and arms control considerations.

More detailed information is contained in the formal certification which, though unclassified, contains business information submitted to the Department of State by the applicant, publication of which could cause competitive harm to the United States firm concerned.

Sincerely,

Michael C. Polt,

Acting Assistant Secretary, Legislative Affairs.

Enclosure: Transmittal No. DTC 277-02

Department of State, Washington, D.C. 20520

October 7, 2002.

The Honorable J. Dennis Hastert,

Speaker of the House of Representatives.

Dear Mr. Speaker: Pursuant to Section 36(c) of the Arms Export Control Act, I am transmitting, herewith, certification of a proposed license for the export of defense articles or defense services sold commercially under a contract in the amount of $50,000,000 or more.

The transaction contained in the attached certification involves the export to the United Kingdom of technical data and assistance for the manufacture of C-130 nacelles for use by Lockheed Martin in the production and support of C-130 aircraft.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary, Legislative Affairs.

Enclosure: Transmittal No. DTC 146-02

Department of State, Washington, D.C. 20520

October 7, 2002.

The Honorable J. Dennis Hastert,

Speaker of the House of Representatives.

Dear Mr. Speaker: Pursuant to Section 36(c) and (d) of the Arms Export Control Act, I am transmitting, herewith, certification of a proposed manufacturing license agreement involving the manufacture abroad of Significant Military Equipment, which also involves the export of defense articles or defense services in the amount of $50,000,000 or more.

The transaction contained in the attached certification involves the export to the United Kingdom of technical data, defense services and defense articles for the manufacture, test and depot level repair of data terminal equipment for the United Kingdom BOWMAN Radio Communication Program with end-use by the United Kingdom.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary, Legislative Affairs.

Enclosure: Transmittal No. DTC 244-02

Department of State, Washington, DC 20520

October 10, 2002.

The Honorable J. Dennis Hastert,

Speaker of the House of Representatives.

Dear Mr. Speaker: Pursuant to Section 36(c) of the Arms Export Control Act, I am transmitting, herewith, certification of a proposed license for the export of defense articles or defense services sold commercially under a contract in the amount of $50,000,000 or more.

The transaction contained in the attached certification involves the export of technical data and assistance to France in order to manufacture nozzle-exit cone extensions for incorporation into the RL10B-2 production engines, which will in turn be integrated into Delta III and IV launch vehicles.

The United States Government is prepared to license the export of these items having taken into account political, military, economic, human rights and arms control considerations.

More detailed information is contained in the formal certification which, though unclassified contains business information submitted to the Department of State by the applicant, publication of which could cause competitive harm to the United States firm concerned.

Sincerely,

Paul V. Kelly,

Assistant Secretary, Legislative Affairs.

Enclosure: Transmittal No. DTC 208-02

Department of State, Washington, DC 20520

October 11, 2002.

The Honorable J. Dennis Hastert,

Speaker of the House of Representatives.

Dear Mr. Speaker: Pursuant to Section 36(c) of the Arms Export Control Act, I am transmitting, herewith, certification of a proposed license for the export of defense articles or defense services sold commercially under a contract in the amount of $14,000,000 or more.

The transaction contained in the attached certification involves the export of defense services, technical data and defense articles to South Korea to support the manufacture and assembly of forty (40) F-15 fighter aircraft with associated spares and support equipment.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 209-02

Department of State, Washington DC 20520

October 11, 2002.

The Honorable J. Dennis Hastert,

Speaker of the House of Representatives.

Dear Mr. Speaker: Pursuant to Section 36(c) and (d) of the Arms Export Control Act, I am transmitting, herewith, certification of a proposed manufacturing license agreement involving the manufacture abroad of significant military equipment, which also involves the export of defense articles or defense services in the amount of $50,000,000 or more.

The transaction contained in the attached certification involves the export to the Republic of Korea of technical data, defense services and defense articles for the manufacture of eighty-eight F110-GE-129 engines and component parts for installation in the F-15K fighter aircraft being developed for the Republic of Korea Air Force for end-use in the Republic of Korea.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 245-02

Department of State, Washington, DC 20520

October 21, 2002.

The Honorable J. Dennis Hastert,

Speaker of the House of Representatives.

Dear Mr. Speaker: Pursuant to Section 36(c) and (d) of the Arms Export Control Act, I am transmitting, herewith, certification of a proposed manufacturing license agreement involving the manufacture abroad of significant military equipment, which also involves the export of defense articles and defense services in the amount of $50,000,000 or more.

The transaction described in the attached certification involves the manufacture of Bowman HF radio subsystems for integration into the Bowman Communications System for end-use by the United Kingdom Ministry of Defence.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly

Assistant Secretary, Legislative Affairs.

Enclosure: Transmittal No. DTC 280-02

Department of State, Washington, DC 20520

October 21, 2002.

The Honorable J. Dennis Hastert,

Speaker of the House of Representatives.

Dear Mr. Speaker: Pursuant to section 36(d) of the Arms Export Control Act, I am transmitting, herewith, certification of a proposed manufacturing license agreement (MLA) involving the manufacture abroad of significant military equipment.

The transaction contained in the attached certification involves the export to Spain of technical data and assistance in the manufacture of the Dragoon/Patroller vehicle for end-use by Spain, and marketing to Portugal, Greece, Turkey, Argentina, Brazil, Canada, Chile, Colombia, Dominican Republic, Ecuador, Jamaica, Peru, Venezuela, Egypt, Israel, Kuwait, Oman, Qatar, Saudi Arabia, Malaysia, the Philippines, Taiwan and Thailand.

The United States Government is prepared to license the export of these items having taken into account political, military, economic, human rights and arms control considerations.

More detailed information is contained in the formal certification, which, though unclassified, contains business information submitted to the Department of State by the applicant, publication of which could cause competitive harm to the United States firm concerned.

Sincerely,

Paul V. Kelly,

Assistant Secretary, Legislative Affairs.

Enclosure: Transmittal No. DTC 222-02

Department of State, Washington, DC 20520

October 21, 2002.

The Honorable J. Dennis Hastert,

Speaker of the House of Representatives.

Dear Mr. Speaker: Pursuant to Section 36(c) and (d) of the Arms Export Control Act, I am transmitting, herewith, certification of a proposed license for the export of defense articles or defense services sold commercially under a contract in the amount of $50,000,000 or more and includes the manufacture of significant military equipment overseas.

The transaction contained in the attached certification involves the export of defense services and technical data to South Korea to support the development and production of M77 grenades used in the Multiple Launch Rocket System (MLRS) by the South Korean Government.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 247-02

Department of State, Washington, DC 20520

October 21, 2002.

The Honorable J. Dennis Hastert

Speaker of the House of Representatives.

Dear Mr. Speaker: Pursuant to Section 36(c) of the Arms Export Control Act, I am transmitting, herewith, certification of a proposed license for the export of defense articles or defense services sold commercially under a contract in the amount of $50,000,000 or more.

The transaction contained in the attached certification involves the export of defense services and technical data to support the manufacture of F100-PW-220 and F100-PW-229 engine parts, components and assemblies in South Korea, for shipment back to the U.S.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 248-02

Department of State, Washington, DC 20520

October 21, 2002.

The Honorable J. Dennis Hastert,

Speaker of the House of Representatives.

Dear Mr. Speaker: Pursuant to Section 36(c) and (d) of the Arms Export Control Act, I am transmitting, herewith, certification of a proposed manufacturing license agreement involving the manufacture abroad of significant military equipment, which also involves the export of defense articles or defense services in the amount of $100,000,000 or more.

The transaction described in the attached certification involves the export of defense services and defense articles for the production of the Mk 46 Mod 5A(S) and Mod 5A(SW) Torpedo assemblies and components in Japan for end-use by the Japanese Defense Agency.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 249-02

Department of State, Washington, DC 20520

October 21, 2002.

The Honorable J. Dennis Hastert,

Speaker of the House of Representatives.

Dear Mr. Speaker: Pursuant to Section 36(d) of the Arms Export Control Act, I am transmitting, herewith, certification of a proposed manufacturing license agreement involving the manufacture in Italy of significant military equipment.

The transaction described in the attached certification involves the transfer of technical data and defense services for the replication of HAVE QUICK II software object code for incorporation into Italian manufactured radio equipment for sale to Australia, Belgium, Canada, Denmark, Greece, The Netherlands, Norway, Portugal, South Korea, Spain, Turkey, France, Poland and Oman.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 250-02

Department of State, Washington, DC 20520

October 21, 2002.

The Honorable J. Dennis Hastert,

Speaker of the House of Representatives.

Dear Mr. Speaker: Pursuant to Section 36(c) of the Arms Export Control Act, I am transmitting, herewith, certification of a proposed license for the export of defense articles or defense services sold commercially under a contract in the amount of $100,000,000 or more.

The transaction contained in the attached certification involves the continuation of an expired manufacturing license agreement for the production of F-15 aircraft fuel cells in Japan for end-use by the Japanese Defense Agency.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 251-02

Department of State, Washington, DC 20520

October 21, 2002.

The Honorable J. Dennis Hastert,

Speaker of the House of Representatives.

Dear Mr. Speaker: Pursuant to Section 36(c) and (d) of the Arms Export Control Act, I am transmitting, herewith, certification of a proposed license for the export of defense articles or defense services sold commercially under a contract in the amount of $50,000,000 or more and includes the manufacture of significant military equipment abroad.

The transaction contained in the attached certification involves the export of hardware, technical data and assistance to support the manufacture of Tactical Air Launched Decoys (TALD) and Improved TALDs with Israel Military Industries Ltd. of Israel, for sale in the U.S. and thirteen countries.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 252-02

Department of State, Washington, DC 20520

Ooctober 21, 2002.

The Honorable J. Dennis Hastert,

Speaker of the House of Representatives.

Dear Mr. Speaker: Pursuant to Section 36(c) of the Arms Export Control Act, I am transmitting, herewith, certification of a proposed license for the export of defense articles or defense services sold commercially under a contract in the amount of $100,000,000 or more.

The transaction contained in the attached certification involves the export to the United Kingdom of technical data and assistance in the production of the control section for the Advanced Medium Range Air-to-Air Missile (AMRAAM) for final incorporation into the missile back in the United States.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly

Assistant Secretary, Legislative Affairs.

Enclosure: Transmittal No. DTC 268-02

Department of State, Washington, DC 20520

October 21, 2002.

The Honorable J. Dennis Hastert,

Speaker of the House of Representatives.

Dear Mr. Speaker: Pursuant to Section 36(c) of the Arms Export Control Act, I am transmitting, herewith, certification of a proposed license for the export of defense articles or defense services sold commercially under a contract in the amount of $100,000,000 or more.

The transaction contained in the attached certification involves a manufacturing license agreement with Japan for the production, service and overhaul of Model 501-K34 naval engine parts for end-use by the Japanese Defense Agency.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 269-02

Department of State, Washington, DC 20520

October 21, 2002.

The Honorable J. Dennis Hastert,

Speaker of the House of Representatives.

Dear Mr. Speaker: Pursuant to Section 36(d) of the Arms Export Control Act, I am transmitting, herewith, certification of a proposed manufacturing license agreement involving the manufacture abroad of significant military equipment.

The transaction described in the attached certification involves the transfer of technical data and defense services to Canada for the production of Optomechanical Major Assemblies and Optical Components and Subassemblies for the Advanced Short Range Air-to-Air Missile (ASRAAM) for end-use by the United Kingdom Ministry of Defence.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 270-02

Department of State, Washington, DC 20520

October 21, 2002.

The Honorable J. Dennis Hastert,

Speaker of the House of Representatives.

Dear Mr. Speaker: Pursuant to Section 36(c) of the Arms Export Control Act, I am transmitting, herewith, certification of a proposed license for the export of defense articles or defense services sold commercially under a contract in the amount of $50,000,000 or more.

The transaction contained in the attached certification involves the export to Taiwan of defense services, technical data and defense articles to support the operational readiness of the Taiwanese Air Force's fleet of F-16 fighter aircraft by providing F100 engine parts, support equipment and training.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 274-02

Department of State, Washington, DC 20520

October 21, 2002.

The Honorable J. Dennis Hastert,

Speaker of the House of Representatives.

Dear Mr. Speaker: Pursuant to Section 36(d) of the Arms Export Control Act, I am transmitting, herewith, certification of a proposed manufacturing license agreement with the United Kingdom for the manufacture of Significant Military Equipment overseas.

The transaction described in the attached certification involves the transfer of technical data, assistance and manufacturing know-how to the United Kingdom for the manufacture of seeker and roll gyros for the United Kingdom Ministry of Defence's Javelin Anti-Tank Weapon System.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 275-02

Department of State, Washington, DC 20520

October 21, 2002.

The Honorable J. Dennis Hastert,

Speaker of the House of Representatives.

Dear Mr. Speaker: Pursuant to Section 36(d) of the Arms Export Control Act, I am transmitting, herewith, certification of a proposed manufacturing license agreement with Chile, Germany and the United Kingdom for the manufacture of Significant Military Equipment overseas.

The transaction described in the attached certification involves the transfer of technical data, assistance and manufacturing know-how to Chile, jointly with Germany and the United Kingdom, for the overhaul and upgrade of up to 158 military ground vehicles for use by the Chile Ministry of Defense.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 276-02

Department of State, Washington, DC 20520

October 21, 2002.

The Honorable J. Dennis Hastert,

Speaker of the House of Representatives.

Dear Mr. Speaker: Pursuant to Section 36(c) and (d) of the Arms Export Control Act, I am transmitting, herewith, certification of a proposed manufacturing license agreement involving the manufacture abroad of significant military equipment, which also involves the export of defense articles or defense services in the amount of $50,000,000 or more.

The transaction contained in the attached certification involves the export to Canada and Australia of technical data, defense services and defense articles for the manufacture of LAV-25 turrets for installation on Warrior Armored Vehicles for end-use by the Kuwaiti Armed Forces in Kuwait.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 278-02

Department of State, Washington, DC 20520

October 21, 2002.

The Honorable J. Dennis Hastert,

Speaker of the House of Representatives.

Dear Mr. Speaker: Pursuant to Section 36(d) of the Arms Export Control Act, I am transmitting, herewith, certification of a proposed manufacturing license agreement (MLA) involving the manufacture abroad of Significant Military Equipment.

The transaction contained in the attached certification involves the export to Japan of technical data and assistance in the manufacture of HTPE solid rocket motor propellant for end-use by Japan.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 279-02

Department of State, Washington, DC 20520

October 21, 2002.

The Honorable J. Dennis Hastert,

Speaker of the House of Representatives.

Dear Mr. Speaker: Pursuant to Section 36(c) of the Arms Export Control Act, I am transmitting, herewith, certification of a proposed manufacturing license agreement involving the export of defense articles or defense services in the amount of $50,000,000 or more.

The transaction contained in the attached certification involves the export of hardware, technical data and assistance to support manufacture of airfoils for F100, J-52, J-57, TF-30, F119, F135, TF33 and F117 aircraft engines with Israel, for sale back to the United States.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 281-02

Department of State, Washington, DC 20520

October 25, 2002.

The Honorable J. Dennis Hastert,

Speaker of the House of Representatives.

Dear Mr. Speaker: I am transmitting, herewith, certification of a proposed issuance of export licenses pursuant to Section 126.14 of the International Traffic in Arms Regulations concerning a Global Project Authorization (GPA) and Section 36(c) of the Arms Export Control Act.

The transaction described in the attached certification concerns the inclusion of Australia in the GPA for the Systems Design and Development phase of the Joint Strike Fighter program, which was notified separately under DTC 277-02, and involves the export of technical data and defense services to Australian firms.

The United States Government is prepared to license exports of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 283-02

Department of State, Washington, DC 20520

October 28, 2002.

The Honorable J. Dennis Hastert,

Speaker of the House of Representatives.

Dear Mr. Speaker: Pursuant to Section 36(c) and (d) of the Arms Export Control Act, I am transmitting, herewith, certification of a proposed manufacturing license agreement involving the manufacture abroad of significant military equipment, which involves the export of defense articles and defense services sold commercially under a contract in the amount of $100,000,000 or more.

The transaction contained in the attached certification involves the export of technical data and defense services for the manufacture of sporting rifles in Japan for sale in the United States and Canada.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary,Legislative Affairs.

Enclosure: Transmittal No. DTC 253-02

[FR Doc. 02-30454 Filed 11-29-02; 8:45 am]

BILLING CODE 4710-25-P